DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having an effect in order to qualify or remain qualified for participation in the Federal Emergency Management Agency's (FEMA's) National Flood Insurance Program (NFIP).

DATES: The date of January 9, 2026 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Jeffrey Jackson,
Deputy Assistant Administrator, Federal Insurance Directorate, Resilience, Federal Emergency Management Agency, Department of Homeland Security.

Community | Community map repository address
Coconino County, Arizona and Incorporated Areas
Docket No.: FEMA-B-2387
Unincorporated Areas of Coconino County | Coconino County Community Development Department, 2500 North Fort Valley Road, Building 1, Flagstaff, AZ 86001.
Eagle County, Colorado and Incorporated Areas
Docket No.: FEMA-B-2465
Town of Basalt | Town Hall, 101 Midland Avenue, Basalt, CO 81621.
Unincorporated Areas of Eagle County | Eagle County Building, 500 Broadway Street, Eagle, CO 81631.
Nuckolls County, Nebraska and Incorporated Areas
Docket No.: FEMA-B-2444
City of Nelson | City Office, 580 South Main Street, Nelson, NE 68961.
Unincorporated Areas of Nuckolls County | Nuckolls County Courthouse, 150 South Main Street, Nelson, NE 68961.
Village of Oak | Village of Oak Clerk's Office, 24 South Nevada Street, Nelson, NE 68961.
Choctaw County, Oklahoma and Incorporated Areas
Docket No.: FEMA-B-2438
Choctaw Nation of Oklahoma | Choctaw Nation of Oklahoma Headquarters, 1802 Chukka Hina, Durant, OK 74701.
City of Hugo | City Hall, 201 South 2nd Street, Hugo, OK 74743.
Town of Boswell | Town Hall, 410 6th Street, Boswell, OK 74727.
Town of Fort Towson | City Hall, 112 East Valliant Street, Fort Towson, OK 74735.
Town of Sawyer | Town Hall, 950 State Highway 147, Sawyer, OK 74756.
Town of Soper | City Hall, 600 Main Street, Soper, OK 74759.
Unincorporated Areas of Choctaw County | Choctaw County Court House, 300 East Duke Street, Hugo, OK 74743.
Love County, Oklahoma and Incorporated Areas
Docket No.: FEMA-B-2455
City of Marietta | City Hall, 700 South Highway 77, Marietta, OK 73448.
Town of Leon | Town Clerk's Office, 13206 Church Street, Leon, OK 73441.
Town of Thackerville | City Hall, 19103 US Highway 77, Thackerville, OK 73459.
Unincorporated Areas of Love County | Love County Commissioners Office, 405 West Main Street, Suite 101, Marietta, OK 73448.
Isle of Wight County, Virginia and Incorporated Areas
Docket No.: FEMA-B-2456
Town of Smithfield | Town Hall, 310 Institute Street, Smithfield, VA 23430
Town of Windsor | Municipal Building, 8 East Windsor Boulevard, Windsor, VA 23487
Unincorporated Areas of Isle of Wight County | Isle of Wight Community Development Building, 17090 Monument Circle, Isle of Wight, VA 23397

[FR Doc. 2025-15884 Filed 8-19-25; 8:45 am]

BILLING CODE 9110-12-P